ENVIRONMENTAL PROTECTION AGENCY

40 CFR Part 52

[MO 165-1165a; FRL-7401-4]

Approval and Promulgation of Implementation Plans; State of KS

AGENCY: Environmental Protection Agency (EPA).

ACTION: Direct final rule.

SUMMARY: EPA is taking final action to approve a volatile organic compound (VOC) rule applicable to the Kansas portion of the Kansas City maintenance area as a revision to the Kansas State Implementation Plan (SIP). This rule restricts VOC emissions from area sources. The effect of this approval is to ensure Federal enforceability of the state air program rules and to maintain consistency between the state-adopted rules and the approved SIP. This action also determines that Kansas has met the condition of approval of its revised maintenance plan for Kansas City and rescinds the prior conditional approval of the revised maintenance plan.

DATES: This direct final rule will be effective December 30, 2002, unless EPA receives adverse comments by November 29, 2002. If adverse comments are received, EPA will publish a timely withdrawal of the direct final rule in the Federal Register informing the public that the rule will not take effect.

ADDRESSES: Comments may be mailed to Leland Daniels, Environmental Protection Agency, Air Planning and Development Branch, 901 North 5th Street, Kansas City, Kansas 66101.

Copies of documents relative to this action are available for public inspection during normal business hours at the above-listed Region 7 location. The interested persons wanting to examine these documents should make an appointment with the office at least 24 hours in advance.

FOR FURTHER INFORMATION CONTACT: Leland Daniels at (913) 551-7651.

SUPPLEMENTARY INFORMATION: Throughout this document whenever “we,” “us,” or “our” is used, we mean EPA. This section provides additional information by addressing the following questions:

What is a SIP?

What is the Federal approval process for a SIP?

What does Federal approval of a state regulation mean to me?

What is being addressed in this document?

Have the requirements for approval of a SIP revision been met?

What action is EPA taking?

What Is a SIP?

Section 110 of the Clean Air Act (CAA) requires states to develop air pollution regulations and control strategies to ensure that state air quality meets the national ambient air quality standards established by EPA. These ambient standards are established under section 109 of the CAA, and they currently address six criteria pollutants. These pollutants are: carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at Title 40, part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally-approved SIP is primarily a state responsibility. However, after the regulation is Federally approved, we are authorized to take enforcement action against violators. Citizens are also offered legal recourse to address violations as described in section 304 of the CAA.

What Is Being Addressed in This Document?

Kansas has adopted a regulation to control emission of VOCs from area sources located within the Kansas portion of the Kansas City ozone maintenance area, specifically Johnson and Wyandotte Counties. The rule we are approving is the Kansas Administrative Rule (K.A.R.) 28-19-714, Control of Emissions from Solvent Metal Cleaning. Kansas, in a continuing effort to achieve additional needed emission reductions, has adopted this control regulation. Implementation of this rule is expected to reduce VOC emissions from area sources by 1.97 tons per day (tpd). This new regulation was adopted by the Kansas Department of Health and Environment (KDHE) on July 29, 2002, and became effective September 1, 2002. Today, EPA is taking final action to approve the rule K.A.R. 28-19-714, Control of Emissions from Solvent Metal Cleaning.

In 1999 we conditionally approved (64 FR 28757, May 27, 1999) the new contingency measures in the maintenance plan and gave the State one year to opt-in to the reformulated gasoline (RFG) program or adopt equivalent emission reduction measures. By letter dated July 28, 1999, the Governor of Kansas filed an application to require RFG for the Kansas City, Kansas, area. The State's action to opt-in to the RFG program fulfilled the condition we imposed upon the approval. Before EPA acted on the application to impose RFG, the Court of Appeals for the District of Columbia Circuit first stayed and later vacated an EPA rule which would have allowed former nonattainment areas (like Kansas City) and other areas to opt-in to the RFG program (American Petroleum Inst. v. U.S. Environmental Protection Agency, 198 F. 3d 275 (D.C. Cir. 2000)). Subsequently, the State chose to implement a lower volatility gasoline measure (7.0 psi RVP). This measure was approved on February 13, 2002 (67 FR 6655, effective March 15, 2002).

Kansas has worked to establish control measures to provide the additional emissions reductions needed to fulfill the contingency measure requirement. In addition, during 2001 Missouri submitted four additional control measures to limit VOC emissions.

For these reasons, we are determining that Kansas has met the condition of the May 27, 1999, approval of the maintenance plan revision (64 FR 28757), and we are rescinding the prior conditional approval (40 CFR 52.869) and providing full approval of the revision to the maintenance plan.

Have the Requirements for Approval of a SIP Revision Been Met?

The state submittal has met the public notice requirements for SIP submissions in accordance with 40 CFR 51.102. The submittal also satisfied the completeness criteria of 40 CFR part 51, appendix V. In addition, as explained above and in more detail in the technical support document which is part of this document, the revision meets the substantive SIP requirements of the CAA, including section 110 and implementing regulations.

What Action Is EPA Taking?

This action approves a VOC rule, K.A.R. 28-19-714, as a revision to Kansas's SIP for the Kansas City, Kansas, area. We are also revoking K.A.R. 28-19-75 as it has been revised and replaced. This action also provides full approval of the revision to the maintenance plan and also removes the prior conditional approval (40 CFR 52.869). We are processing this action as a final action because it adds noncontroversial regulations to the SIP. We do not anticipate any adverse comments. Please note that if EPA receives adverse comment on an amendment, paragraph, or section of this rule and if that provision is severed from the remainder of the rule, EPA may adopt as final those provisions of the rule that are not the subject of an adverse comment.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 30, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 18, 2002.
William Rice,
Acting Regional Administrator, Region 7.

Chapter I, title 40 of the Code of Federal Regulations is amended as follows:

PART 52—[AMENDED]

1. The authority citation for part 52 continues to read as follows:

Authority: 42 U.S.C. 7401 et seq.

Subpart R—Kansas

§ 52.869 [Removed and Reserved]

2. Section 52.869 is removed and reserved.

3. Section 52.870 is amended in the table to paragraph (c) under Volatile Organic Compound Emissions by:

a. Removing the entry for K.A.R. 28-19-75; and

b. Adding in numerical order an entry for “28-19-714,” to read as follows:

§ 52.870 Identification of plan.

* * * * *

(c) * * *

EPA-Approved Kansas Regulations
Kansas citation | Title | State effective date | EPA approval date | Comments
Kansas Department of Health and Environment Ambient Air Quality Standards and Air Pollution Control
* * * * * * *
Volatile Organic Compound Emissions
* * * * * * *
28-19-714 | Control of Emissions from Solvent Metal Cleaning | 9/1/02 | 10/30/02 [FR page citation]
* * * * * * *

* * * * *

[FR Doc. 02-27492 Filed 10-29-02; 8:45 am]

BILLING CODE 6560-50-P